DEPARTMENT OF THE INTERIOR

National Indian Gaming Commission

Update to Notice of Availability of a Final Supplemental Environmental Impact Statement for the Jamul Indian Village Proposed Gaming Management Agreement, San Diego County, California

AGENCY: National Indian Gaming Commission (NIGC), Interior.

ACTION: Notice of Availability (NOA).

SUMMARY: In accordance with Section 102(2)(C) of the National Environmental Policy Act (NEPA) 42 U.S.C. 4321 et seq., the NIGC, in cooperation with the Jamul Indian Village has prepared a Final Supplemental Environmental Impact Statement (Final SEIS) for the proposed Gaming Management Agreement (GMA) between the Jamul Indian Village (JIV) and San Diego Gaming Ventures (SDGV). If approved, the GMA would allow SDGV to assume responsibility for operation and management of the JIV Gaming Facility located in San Diego County, California. The Final SEIS addresses the effects of GMA approval and the No Action Alternative, which assumes no GMA, is approved. The SEIS also updates the environmental baseline given the time that has passed and the changes that have been made to the scope of the Proposed Action, which was originally addressed in the 2003 Final EIS.

FOR FURTHER INFORMATION CONTACT: For further information or to request a copy of the Final SEIS, please contact: Andrew Mendoza, Staff Attorney, National Indian Gaming Commission Office of the General Counsel 1849 C Street NW., Mail Stop #1621, Washington, DC 20240, Phone: 202-632-7003: Facsimile: 202-632-7066: email: Andrew Mendoza@nigc.gov.

Availability of the Final SEIS: The Final SEIS is available for public review at the following locations:

The Rancho San Diego Public Library, 11555 Via Rancho San Diego, El Cajon, CA 92019, telephone (619) 660-5370; and

The Jamul Indian Village Tribal Office, 14191 #16 Highway 94. Jamul, CA 91935, telephone (619) 669-4785.

Copies of the Final SEIS will also be available for download from the Tribe's Web site www.jamulindianvillage.com.

SUPPLEMENTARY INFORMATION: The JIV Reservation is located in the unincorporated portion of southwestern San Diego County approximately one mile south of the community of Jamul on approximately six-acres of land held in federal trust. State Route 94 (SR-94) provides regional access to the JIV from downtown San Diego, which is located approximately 20 miles to the west where it intersects with Highway 5. Local access to the JIV is provided directly from SR-94 via Daisy Drive. From the JIV, SR-94 travels briefly north and then west to Downtown San Diego, passing through the unincorporated communities of Jamul, Casa de Oro, Spring Valley and Lemon Grove.

In 2000, JIV proposed a fee-to-trust land acquisition, construction and operation of a gaming complex and approval of a gaming development and management agreement for operation of the JIV Gaming Facility. The proposal was evaluated in a Final EIS prepared in 2003. Since that time, several major items have been removed from JIV's overall development program and the Gaming Facility has been redesigned to fit entirely within the existing JIV Reservation. All environmental effects of the Gaming Facility redesign have been evaluated through preparation of a Final Tribal Environmental Evaluation, which was prepared in accordance with the 1999 Tribal/State Compact. No action is before the BIA due to no fee-to-trust component of the JIV proposal. An action from the NIGC is required; specifically, approval or disapproval of the GMA. That approval or disapproval is the Proposed Action evaluated in the Final SEIS.

In addition to the Proposed Action, the Final SEIS addresses the No Action Alternative, which assumes no approval of the GMA between JIV and SDGV. Under the No Action scenario, JIV would assume operation and management responsibilities of the Jamul Gaming Facility. The NIGC may, in its Record of Decision, select the No Action Alternative rather than the Proposed Action.

This Final SEIS updates environmental conditions in the affected area given the amount of time that has passed since the 2003 Final EIS. Environmental issues addressed within the Final SEIS include land resources, water resources, air quality, biological resources, cultural/paleontological resources, socioeconomic conditions, transportation, land use, public services, hazardous materials, noise, and visual resources. The Final SEIS examines the direct, indirect, and cumulative effects of each alternative on these resources. The NIGC published a Notice of Intent (NOI) in the Federal Register on April 10, 2013, describing the Proposed Action, announcing the NIGC's intent to prepare a Draft SEIS for the Proposed Action, and inviting comments.

The Draft EIS Notice of Availability (NOA) was published in the Federal Register by the U.S. Environmental Protection Agency (EPA) on April 8, 2016 and the Draft SEIS was made available to federal, Tribal, state, and local agencies and other interested parties for review and comment. The comment period was open for 45 days after the date of publication in the Federal Register and closed on May 23, 2016. A total of nine comment letters were received. All comments received by the NIGC were considered and addressed in the Final SEIS, however, no substantive changes were made.

The EPA published the NOA of the Final SEIS in the Federal Register on July 8, 2016 The Chairman of the NIGC will prepare and sign the record of decision (ROD) to announce his final decision on the GMA between the JIV and SDGV following the August 8, 2016 conclusion of the 30 day public comment and review period. Availability of the ROD will be announced to the media and the project mailing list, and the ROD itself will be made available online.

Submittal of Written Comments: You may mail or email, written comments to NIGC, Attn: Andrew Mendoza, Staff Attorney, c/o Department of the Interior, 1849 C Street NW., Mail Stop #1621, Washington, DC 20240 email: Andrew Mendoza @nigc.gov. Please include your name, return address, and the caption: ”Final SEIS Comments, Jamul Indian Village,” on the first page of your written comments. In order to be fully considered, written comments on the Final SEIS must be postmarked by August 8, 2016.

Commenting individuals may request confidentiality. If you wish us to withhold your name and/or address from public review or from disclosure under the Freedom of Information Act, you must state this prominently at the beginning of your written comments. Such requests will be honored to the extent allowed by law. Anonymous comments will not, however, be considered. All submissions from organizations or businesses, and from individuals identifying themselves as representatives or officials of organizations or businesses, will be made available to public in their entirety.

Authority: This notice is published in accordance with 25 U.S.C. 2711, section 1503.l of the Council on Environmental Quality Regulations (40 CFR parts 1500 through 1508), and the Department of the Interior regulations (43 CFR part 46), implementing the procedural requirements of NEPA, as amended (42 U.S.C. 4321 et seq.)

Dated: July 20, 2016.
Michael Hoenig,
General Counsel.

[FR Doc. 2016-17589 Filed 7-25-16; 8:45 am]

BILLING CODE 7565-01-P